DEPARTMENT OF JUSTICE

Drug Enforcement Administration

Manufacturer of Controlled substances; Notice of Registration

By Notice dated June 6, 2003, and published in the Federal Register on June 19, 2003, (68 FR 36843), CellTech Manufacturing CA., Inc., 3501 West Garry Avenue, Santa Ana, California 92704, made application by renewal to the Drug Enforcement Administration to be registered as a bulk manufacturer of Methylphenidate (1724), a basic class of controlled substance listed in Schedule II.

The firm plans to manufacture the controlled substance to make finished dosage forms for distribution to its customers.

No comments or objections have been received. DEA has considered the factors in Title 21, United States Code, section 823(a) and determined that the registration of CellTech Manufacturing CA. Inc. to manufacture the listed controlled substance is consistent with the public interest at this time. DEA has investigated CellTech Manufacturing CA., Inc. to ensure that the company's registration is consistent with the public interest.

This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic class of controlled substance listed is granted.

Dated: September 17, 2003
Laura M. Nagel,
Deputy Assistant Administrator, Office of Diversion Control, Drug Enforcement Administration.

[FR Doc. 03-25408 Filed 10-6-03; 8:45 am]

BILLING CODE 4410-09-M